SMALL BUSINESS ADMINISTRATION

National Small Business Development Center Advisory Board Public Meeting

The U.S. Small Business Administration's National Small Business Development Center Advisory Board will be hosting a public meeting via conference call to discuss such matters that may be presented by members, staff of the U.S. Small Business Administration, or interested others. The conference call will take place on Tuesday, March 15, 2005, at 1 p.m. eastern standard time. The call in number is 1-866-740-1260 and the pass code is 3761101.

Anyone wishing to make an oral presentation to the Board must contact Dionna Martin, Senior Program Manager, U.S. Small Business Administration, Office of Small Business Development Center, 409 3rd Street, SW., Washington, DC 20416, telephone: (202) 205-7042; fax (202) 481-1671.

Matthew K. Becker,
Committee Management Officer.

[FR Doc. 05-4550 Filed 3-8-05; 8:45 am]

BILLING CODE 8025-01-P